DEPARTMENT OF TRANSPORTATION

National Highway Traffic Safety Administration

[Docket No. DOT-NHTSA-2015-0084]

Reports, Forms and Recordkeeping Requirements; Agency Information Collection Activity Under OMB Review; Request for Comments on a New Information Collection

AGENCY: National Highway Traffic Safety Administration (NHTSA), DOT.

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on March 26, 2015.

DATES: Comments must be submitted on or before August 5, 2015.

FOR FURTHER INFORMATION CONTACT: Wayne McKenzie, Office of Crash Avoidance Standards (NVS-121), National Highway Traffic Safety Administration, West Building W43-462, 1200 New Jersey Avenue SE., Washington, DC 20590. Mr. McKenzie can be reached at (202) 366-1729.

SUPPLEMENTARY INFORMATION: Title: 49 CFR Section 571.108, Compliance Labeling of Retroreflective Materials Heavy Trailer Conspicuity.

OMB Control Number: 2127-0569.

Type of Request: Extension of a currently approved collection.

Abstract: Federal Motor Vehicle Safety Standard No. 108, “Lamps, reflective devices, and associated equipment,” specifies requirements for vehicle lighting for the purposes of reducing traffic accidents and their tragic results by providing adequate roadway illumination, improved vehicle conspicuity, appropriate information transmission through signal lamps, in both day, night, and other conditions of reduced visibility. For certifications and identification purposes, the Standard requires the permanent marking of the letters “DOT-C2,” DOT-C3”, or DOT-C4” at least 3mm high at regular intervals on retroreflective sheeting material having adequate performance to provide effective trailer conspicuity.

The manufacturers of new tractors and trailers are required to certify that their products are equipped with retroreflective material complying with the requirements of the standard. The Federal Motor Carriers Safety Administration (FMCSA) enforces this and other standards through roadside inspections of trucks. There is no practical field test for the performance requirements, and labeling is the only objective way of distinguishing trailer conspicuity grade material from lower performance material. Without labeling, FMCSA will not be able to enforce the performance requirements of the standard and the compliance testing of new tractors and trailers will be complicated. Labeling is also important to small trailer manufacturers because it may help them certify compliance. Because wider stripes or material of lower brightness also can provide the minimum safety performance, the marking system serves the additional role of identifying the minimum stripe width required for retroreflective conspicuity of the particular material.

Affected Public: Businesses or other for profit organizations.

Estimated Number of Respondents: 6.

Estimated Number of Responses: 6.

Annual Estimated Total Annual Burden Hours: 1 hour.

Frequency of Collection:

ADDRESSES: Send comments regarding the burden estimate, including suggestions for reducing the burden, to the Office of Management and Budget, Attention: Desk Officer for the Office of the Secretary of Transportation, 725 17th Street NW., Washington, DC 20503.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1:48.

Raymond R. Posten,
Associate Administrator for Rulemaking.

[FR Doc. 2015-16402 Filed 7-2-15; 8:45 am]

BILLING CODE 4910-59-P